FEDERAL COMMUNICATIONS COMMISSION

[Report No. 2738]

Petitions for Reconsideration of Action in Rulemaking Proceeding

November 8, 2005.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by December 8, 2005. See section 1.4(b)(1) of the Commission's rules (47 CFR 1.4(b)(1)). Replies to an opposition must be filed within 10 days after the time for filing oppositions have expired.

Subject: In the Matter of Implementation of Section 210 of the Satellite Home Viewer Extension and Reauthorization Act of 2004 to Amend Section 338 of the Communications Act (MB Docket No. 05-181).

Number of Petitions Filed: 5.

Subject: In the Matter of Applications of Loral Space & Communications Ltd. (DIP) for the Transfer of Control of Licenses and Authorizations Held by Loral Orion, Inc. (DIP), Loral SpaceCom Corporation (DIP) and Loral Skynet Network Services, Inc. (DIP) to Loral Space & Communications Inc. (IB Docket No. 05-233).

Number of Petitions Filed: 1.

Marlene H. Dortch,
Secretary.

[FR Doc. 05-22988 Filed 11-22-05; 8:45 am]

BILLING CODE 6712-01-P